DEPARTMENT OF ENERGY

Federal Energy Regulatory Commission

[Docket Nos. CP17-101-007, CP20-49-001]

Transcontinental Gas Pipe Line Company, LLC; Notice of Availability of the Draft General Conformity Determination Reevaluation for the Northeast Supply Enhancement Project

The staff of the Federal Energy Regulatory Commission (FERC or Commission) has prepared a Draft General Conformity Determination Reevaluation (GCD Reevaluation) for the Northeast Supply Enhancement Project (Project), proposed by Transcontinental Gas Pipe Line Company, LLC (Transco) in the above-referenced dockets. The Draft GCD Reevaluation was prepared to satisfy the requirements of the Clean Air Act. The Draft GCD Reevaluation assesses the potential air quality impacts associated with the construction and operation of the following Project facilities:

• 10.2 miles of 42-inch-diameter pipeline loop ¹ in Lancaster County, Pennsylvania (the Quarryville Loop);

¹ A pipeline “loop” is a segment of pipe constructed parallel to an existing pipeline to increase capacity.

• 3.4 miles of 26-inch-diameter pipeline loop in Middlesex County, New Jersey (the Madison Loop);

• 23.5 miles of 26-inch-diameter pipeline loop onshore and offshore in Middlesex and Monmouth Counties, New Jersey and Queens and Richmond Counties, New York (Raritan Bay Loop);

• modification of existing Compressor Station 200 in Chester County, Pennsylvania;

• new Compressor Station 206 in Somerset County, New Jersey; and

• ancillary facilities.

The Draft GCD Reevaluation identifies that all emissions above the General Conformity applicability thresholds from construction of the Project are expected to occur in New York and New Jersey within the New Jersey-New York-Connecticut Interstate Air Quality Control Region. The draft GCD Reevaluation concludes that the Project would achieve conformity with the New York and New Jersey State Implementation Plans through the purchase of emission reduction credits of nitrogen oxides and volatile organic compounds to offset Project emissions.

The Draft GCD Reevaluation is only available in electronic format. It may be viewed and downloaded from the FERC's website (www.ferc.gov) using the eLibrary link. Click on the eLibrary link (https://elibrary.ferc.gov/eLibrary/search), select “General Search” and enter the docket number in the “Docket Number” field, excluding the last three digits (i.e., CP17-101). Be sure you have selected an appropriate date range. For assistance, please contact FERC Online Support at FercOnlineSupport@ferc.gov or toll free at (866) 208-3676, or for TTY, contact (202) 502-8659.

In accordance with the General Conformity Regulations under the Code of Federal Regulations Chapter 40 Part 93.156, the Draft GCD Reevaluation is issued for a 30-day comment period. Any person wishing to comment on the Draft GCD Reevaluation may do so. To ensure consideration of your comments on the Draft GCD Reevaluation in the Final GCD Reevaluation, it is important that the Commission receive your comments in Washington, DC on or before 5:00 p.m. Eastern Time on July 24, 2025.

For your convenience, there are three methods you can use to file your comments to the Commission. The Commission encourages electronic filing of comments and has staff available to assist you at (866) 208-3676 or FercOnlineSupport@ferc.gov. Please carefully follow these instructions so that your comments are properly recorded.

(1) You can file your comments electronically using the eComment feature on the Commission's website (www.ferc.gov) under the link to FERC Online. This is an easy method for submitting brief, text-only comments on a project;

(2) You can also file your comments electronically using the eFiling feature on the Commission's website (www.ferc.gov) under the link to FERC Online. With eFiling, you can provide comments in a variety of formats by attaching them as a file with your submission. New eFiling users must first create an account by clicking on “eRegister.” You must select the type of filing you are making. If you are filing a comment on a particular project, please select “Comment on a Filing”; or

(3) You can file a paper copy of your comments by mailing them to the Commission. Be sure to reference the project docket numbers (CP17-101-007 and CP20-49-001) on your letter. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, Maryland 20852.

Additional information about the project is available from the Commission's Office of External Affairs, at (866) 208-FERC, or on the FERC website (www.ferc.gov) using the eLibrary link. The eLibrary link also provides access to the texts of all formal documents issued by the Commission, such as orders, notices, and rulemakings.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: June 24, 2025.
Debbie-Anne A. Reese,
Secretary.

[FR Doc. 2025-11967 Filed 6-26-25; 8:45 am]

BILLING CODE 6717-01-P